DEPARTMENT OF ENERGY

Office of Energy Efficiency and Renewable Energy

Algal Biofuels Strategy Workshop

AGENCY: Office of Energy Efficiency and Renewable Energy, Department of Energy (DOE).

ACTION: Notice of open meeting.

SUMMARY: The Department of Energy (DOE) today announces an open meeting hosted by its Bioenergy Technologies Office (BETO) on the topic of algae-based biofuels research and development, titled the Algal Biofuels Strategy Workshop.

DATES: March 26, 2014, 8:30 a.m.-5:30 p.m., March 27, 2014 8:30 a.m.-11:45 p.m.

ADDRESSES: Charleston Marriott, 170 Lockwood Boulevard, Charleston, SC 29403.

FOR FURTHER INFORMATION CONTACT: Questions may be directed to Daniel Fishman, Designated Federal Official for the Workshop, Office of Energy Efficiency and Renewable Energy, U.S. Department of Energy, 1000 Independence Avenue SW., Washington, DC 20585; (202) 586-4705; Email: Daniel.Fishman@ee.doe.gov.

SUPPLEMENTARY INFORMATION: Purpose of Meeting: To discuss research and development needed to achieve affordable, scalable, and sustainable algae-based biofuels.

Tentative Agenda: The workshop will include presentations on current research and development (R&D) strategies by DOE's BETO Algae Program, including explanation of the Multi-Year Program Plan, Technology Pathways, and technical targets, and will allow time for participant questions and open discussion of the Program's approach. The agenda will feature an R&D Breakthrough Round Robin, which will be an open forum for brief talks given to the general session by workshop participants. There will also be ten breakout sessions focused on priority areas in: (1) Algal Biology, (2) Cultivation, (3) Processing and Conversion, (4) Scaling and Integration, and (5) Analysis and Sustainability.

Public Participation: Members of the public are encouraged to participate in the open discussions of the workshop. To attend the meeting you must register at the following Web site: www.eere.energy.gov/bioenergy/algal_strategy_workshop

Issued in Golden, CO on January 30, 2014.
Nicole Blackstone,
Contracting Officer.

[FR Doc. 2014-04848 Filed 3-4-14; 8:45 am]

BILLING CODE 6450-01-P